POSTAL REGULATORY COMMISSION

[Docket No. CP2024-515; Order No. 8168]

Inbound Express Mail Service 2

AGENCY: Postal Regulatory Commission.

ACTION: Notice.

SUMMARY: The Commission is acknowledging a recent Postal Service filing of its intention to submit rates in a different format. This document informs the public of the filing, invites public comment, and takes other administrative steps.

DATES: Comments are due: December 13, 2024.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On August 29, 2024, the Commission approved the Postal Service's proposal to change rates not of general applicability for Inbound Express Mail Service (EMS) 2, effective January 1, 2025.¹ The Postal Service states that after submitting the approved per-item and per-kilogram rates to the Universal Postal Union (UPU), the International Bureau (IB) directed the Postal Service to submit rates in a different format—a single flat rate per EMS item.² Pursuant to 39 CFR 3035.105, on November 26, 2024, the Postal Service filed notice regarding updated financial workpapers containing the rates that were submitted to the UPU in the new single flat rate format. See Notice.

¹ Order Approving Changes in Prices for Inbound EMS 2, August 29, 2024 (Order No. 7432).

² Notice of the United States Postal Service of Updated Financial Workpapers for Rates for Inbound EMS 2, November 26, 2024, at 1-2 (Notice).

II. Contents of Filing

The Postal Service filed a redacted version of the updated financial workpapers along with a new certified statement in accordance with 39 CFR 3035.105(c)(2). Notice at 2. The Postal Service filed the unredacted version of the updated financial workpapers under seal. Id. at 2 n.4.

III. Commission Action

The Commission reactivates Docket No. CP2024-515 for consideration of matters raised by the Notice. Pursuant to 39 U.S.C. 505, Katalin Clendenin shall continue to serve as Public Representative in this docket.

The Commission invites comments on whether the Postal Service's filing is consistent with 39 U.S.C. 3632, 3633, and 3642 and 39 CFR part 3035. Comments are due no later than December 13, 2024. The public portions of the filing can be accessed via the Commission's website (https://www.prc.gov). Non-public portions of the Postal Service's filing can be accessed through compliance with the requirements of 39 CFR part 3011.

IV. Ordering Paragraphs

It is ordered:

1. The Commission establishes Docket No. CP2024-515 for consideration of the matters raised by the Postal Service's Notice.

2. Pursuant to 39 U.S.C. 505, Katalin Clendenin shall continue to serve as an officer of the Commission to represent the interests of the general public in this proceeding (Public Representative).

3. Comments are due no later than December 13, 2024.

4. The Secretary shall arrange for publication of this order in the Federal Register.

By the Commission.
Erica A. Barker,
Secretary.

[FR Doc. 2024-28346 Filed 12-2-24; 8:45 am]

BILLING CODE 7710-FW-P